FEDERAL COMMUNICATIONS COMMISSION

47 CFR Parts 1, 11, 73, and 74

[FCC 00-115]

Establishment of a Class A TV Service; Correction

AGENCY: Federal Communications Commission.

ACTION: Final rule; correction.

SUMMARY: The Federal Communications Commission published in the Federal Register of May 10, 2000, a document concerning establishment of a Class A television service. This document contains corrections to that rule. Inadvertently, the effective date of the rule and the amendatory instructions to § 73.2080 were incorrect, and a paragraph was incorrectly deleted from § 73.1690. In addition, there is a typographical error in § 11.11, a line missing in the table of contents to Subpart J of part 73, and text that was incorrectly codified in § 73.3580. This document corrects these errors.

DATES: Effective May 30, 2000.

FOR FURTHER INFORMATION CONTACT: Kim Matthews, 202-418-2130.

SUPPLEMENTARY INFORMATION: The FCC published a document in the Federal Register of May 10, 2000 (65 FR 29985), establishing a Class A television service. In rule FR Doc. 00-11481, published on May 10, 2000, 65 FR 29985, correct the effective date, §§ 11.11, 73.1690, 73.2080, 73.3580, and the table of contents to subpart J of part 73.

In rule FR Doc. 00-11481, published May 10, 2000 (65 FR 29985), make the following corrections:

1. On page 29985, in the second column, the effective date is corrected to read as follows:

DATES: Effective on June 9, 2000.

2. On page 29999, in the first column, in paragraph 87, the first sentence is corrected to read as follows: The amendments set forth shall be effective June 9, 2000.

3. On page 30001, the table “Timetable Broadcast Stations” in § 11.11(a) is corrected by revising the second entry in the first column to read as follows:

§ 11.11 The Emergency Alert System (EAS).

Section 11.11(a) is amended by revising the second entry in the first column of the table “Timetable Broadcast Stations” to read as follows:

“Two-tone decoder 4, 5”

4. On page 30005, in the third column, § 73.1690 is corrected by adding paragraph (c)(3) immediately preceding paragraph (c)(4) to read as follows:

§ 73.1690 Modification of transmission systems.

* * * * *

(c ) * * *

(3) A directional TV on Channels 2 through 13 or 22 through 68 or a directional Class A TV on Channels 2 through 13 or 22 through 51, or a directional TV or Class A TV station on Channels 15 through 21 which is in excess of 341 km (212 miles) from a cochannel land mobile operation or in excess of 225 km (140 miles) from a first-adjacent channel land mobile operation (see part 74, § 74.709(a) and (b) for tables of urban areas and reference coordinates of potentially affected land mobile operations), may replace a directional TV or Class A TV antenna by a license modification application, if the proposed horizontal theoretical directional antenna pattern does not exceed the licensed horizontal directional antenna pattern at any azimuth and where no change in effective radiated power will result. The modification of license application on Form 302-TV or Form 302-CA must contain all of the data set forth in § 73.685(f) or § 73.6025(a), as applicable.

* * * * *

5. On page 30006, in the first column, § 73.2080 is corrected by revising paragraph (a) to read as follows:

§ 73.2080 Equal employment opportunities.

(a) General EEO Policy. Equal opportunity in employment shall be afforded by all licensees or permittees of commercially or noncommercially operated AM, FM, TV, Class A TV, or international broadcast stations (as defined in this part) to all qualified persons, and no person shall be discriminated against in employment by such stations because of race, color, religion, national origin, or sex. Religious radio broadcasters may establish religious belief or affiliation as a job qualification for all station employees. However, they cannot discriminate on the basis of race, color, national origin or gender from among those who share their religious affiliation or belief. For purposes of this rule, a religious broadcaster is a licensee which is, or is closely affiliated with, a church, synagogue, or other religious entity, including a subsidiary of such an entity.

* * * * *

6. On page 30008, in the third column, § 73.3580(d)(5) was incorrect. Section 73.3580(d)(5) is corrected to read as follows:

§ 73.3580 Local public notice of filing of broadcast applications.

* * * * *

(d) * * *

(5) An applicant who files for a Class A television license must give notice of this filing by broadcasting announcements on applicant's station. (Sample and schedule of announcements are below.) Newspaper publication is not required.

(i) The broadcast notice requirement for those filing for Class A television license applications and amendment thereto is as follows:

(A) Pre-filing announcements. Two weeks prior to the filing of the license application, the following announcement shall be broadcast on the 5th and 10th days of the two week period. The required announcements shall be made between 6 p.m. and 11 p.m. (5 p.m. and 10 p.m. Central and Mountain Time) Stations broadcasting primarily in a foreign language should broadcast the announcements in that language.

On (date), the Federal Communications Commission granted (Station's call letters) a certification of eligibility to apply for Class A television status. To become eligible for a Class A certificate of eligibility, a low power television licensee was required to certify that during the 90-day period ending November 28, 1999, the station: (1) Broadcast a minimum of 18 hours per day; (2) broadcast an average of at least three hours per week of programming produced within the market area served by the station or by a group of commonly-owned low power television stations; and (3) had been in compliance with the Commission's regulations applicable to the low power television service. The Commission may also issue a certificate of eligibility to a licensee unable to satisfy the foregoing criteria, if it determines that the public interest, convenience and necessity would be served thereby.

(Station's call letters) intends to file an application (FCC Form 302-CA) for a Class A television license in the near future. When filed, a copy of this application will be available at (address of location of the station's public inspection file) for public inspection during our regular business hours. Individuals who wish to advise the FCC of facts relating to the station's eligibility for Class A status should file comments and petitions with the FCC prior to Commission action on this application.

(B) Post-filing announcements. The following announcement shall be broadcast on the 1st and 10th days following the filing of an application for a Class A television license. The required announcements shall be made between 6 p.m. and 11 p.m. (5 p.m. and 10 p.m. Central and Mountain Time). Stations broadcasting primarily in a foreign language should broadcast the announcements in that language.

On (date of filing license application) (Station's call letters) filed an application, FCC Form 302-CA, for a Class A television license. Such stations are required to broadcast a minimum of 18 hours per day, and to average at least 3 hours of locally produced programming each week, and to comply with certain full-service television station operating requirements.

A copy of this application is available for public inspection during our regular business hours at (address of location of the station's public inspection file). Individuals who wish to advise the FCC of facts relating to the station's eligibility for Class A status should file comments and petitions with the FCC prior to Commission action on this application.

(ii ) [Reserved]

* * * * *

7. On page 30009, in the first and second columns, the table of contents to subpart J of part 73 is corrected to read as follows:

Subpart J—Class A Television Broadcast Stations
Sec.
73.6000 Definitions.
73.6001 Eligibility and service requirements.
73.6002 Licensing requirements.
73.6003-73.6005 [Reserved]
73.6006 Channel assignments.
73.6007 Power limitations.
73.6008 Distance computations.
73.6010 Class A TV station protected contour.
73.6011 Protection of TV broadcast stations.
73.6012 Protection of Class A TV, low power TV, and TV translator stations.
73.6013 Protection of DTV stations.
73.6014 Protection of digital Class A TV stations.
73.6016 Digital Class A TV station protection of TV broadcast stations.
73.6017 Digital Class A TV station protection of Class A TV, low power TV, and TV translator stations.
73.6018 Digital Class A TV station protection of DTV stations.
73.6019 Digital Class A TV station protection of digital Class A TV stations.
73.6020 Protection of stations in the land mobile radio service.
73.6022 Negotiated interference and relocation agreements.
73.6024 Transmission standards and system requirements.
73.6025 Antenna system and station location.
73.6026 Broadcast regulations applicable to Class A television stations.

Federal Communications Commission.
Magalie Roman Salas,
Secretary.

[FR Doc. 00-13402 Filed 5-26-00; 8:45 am]

BILLING CODE 5712-01-P